DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with June anniversary dates. In accordance with Commerce's regulations, we are initiating those administrative reviews.

DATES: Applicable July 25, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with June anniversary dates. All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our respondent selection decision within 35 days of the Federal Register publication of the initiation notice. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than June 30, 2026.

| Period to be reviewed
AD Proceedings
ARGENTINA: Raw Honey A-357-823 | 6/1/24-5/31/25
Algodonera Avellaneda S.A. |
Annamell Imp. E Exp. De Produtos Apicolas Ltda. |
Apicola Danangie |
Apidouro Comercial Exportadora E Importadora Ltda. |
Argentik LLC |
Asociación De Cooperativas Argentinas Cooperativa Limitada |
Associacion de Cooperativas Argentinas C.L. |
Azul Agronegocios S.A. |
Breyer E Cia. Ltda. |
CAM Honey Brothers S.A. |
Camino de Circunvalancion y Calle |
Cladan S.A. |
Compania Apicola Argentina S.A. |
Compania Inversora Platense S.A. |
Conexao Agro Ltda. ME |
Cooperativa Apicola La Colmena Ltda. |
Cooperativa de Provisión Apícola COSAR Limitada |
D'Ambros Maria de los Angeles y D'Ambros Maria Daniela SRL |
D'Ambros Maria de los Angeles D'Ambros Maria Daniela SRL |
D'Ambros Maria de los Angeles y D'Ambros Maria Daniela SH |
D'Ambros Maria de los Angeles D'Ambros Maria Daniela SH |
Flora Nectar Industria Comercio Importacao E Exportacao Ltda. |
Gasrroni S.R.L. |
Geomiel S.A. |
Gruas San Blas S.A. |
Honey & Grains Srl |
Industrial Haedo S.A. |
Mieles Cor Pam Srl |
Naiman S.A. |
Newsan S.A. |
NEXCO S.A. |
Osbo S.A. |
Patagonik Food S.A. |
Patagonik S.A. |
Promiel Srl (Vicentin S.A.I.C.) |
Terremare Foods S.A.S. |
Villamora S.A. |
BRAZIL: Raw Honey A-351-857 | 6/1/24-5/31/25
Annamell Imp. E Exp. De Produtos Apicoloas Ltda.⁴ |
Apiário Diamante Comercial Exportadora Ltda/Apiário Diamante Produção e Comercial de Mel Ltda. |
Apiários Adams Agroindustrial Comercial Exportadora Ltda. |
Apidouro Comercial Exportadora E Importadora Ltda. |
Apis Nativa Agroindustrial Exportadora Ltda. |
Breyer & Cia. Ltda.⁵ |
Carnauba Do Brasil Ltda. |
Central De Cooperativas Apicolas Do (CASA APIS) |
Conexão Agro Ltda ME |
Cooperativa Mista Dos Apicultores D |
Cooperativa Mista Dos Apicultores Da Microrregiao de Simplicio Mendes—PI |
Floranectar Ind. Comp. Imp. E Exp. De Mel ⁶ |
Lamberhoney Industria Comercio Exportacao Ltda/Lambertucci Industria Comercio Exportaca |
Lambertucci |
Matrunita |
Matrunita Da Amazonia Apicultura Ltda. |
Melbras Importadora e Exportadora Agroindustria Ltda.⁷ |
Minamel Agroindustria Ltda.⁸ |
Nectar Floral |
Novomel |
S&A HONEY LTDA.⁹ |
Safe Logistics |
Samel Honey |
Samel Industria Alimenticia Ltda. |
STM Trading |
Wenzel's Apicultura Comercio Industria Import.¹⁰ |
BRAZIL: Brass Rod A-351-859 | 12/1/23-5/31/25
Termomecanica Sao Paulo S.A. |
GERMANY: Certain Cold-Drawn Mechanical Tubing of Carbon and Alloy Steel A-428-845 | 6/1/24-5/31/25
Benteler Automobiltechnik GmbH |
Benteler Distribution International GmbH; BENTELER Steel/Tube GmbH |
Benteler Lightweight Protection GmbH |
Benteler Steel & Tube Corporation |
Mubea Fahrwerksfedern GmbH |
Salzgitter AG |
Salzgitter Mannesmann Line Pipe GmbH |
Salzgitter Mannesmann Precision Tubes GmbH |
INDIA: Brass Rod A-533-915 | 12/1/23-5/31/25
Rajhans Metals Private Limited |
Shree Extrusions Limited |
INDIA: Certain Cold-Drawn Mechanical Tubing of Carbon and Alloy Steel A-533-873 | 6/1/24-5/31/25
Goodluck India Limited; Good Luck Industries; Goodluck Industries; Good Luck Steel Tubes Limited |
Salem Steel N.A., LLC |
Tube Products of India, Ltd., a unit of Tube Investments of India Limited |
INDIA: Glycine A-533-883 | 6/1/24-5/31/25
Aditya Chemicals |
Adwith Nutrichem Private Limited |
Avid Organics Private Limited (Avid) |
Bajaj Healthcare Limited |
Elementis Specialties India Private Limited |
Euroasias Organics Private Limited |
Euroasia Trans Continental |
Galaxy Surfactants Limited |
Glisten Biotech |
Grauer & Weil (India) Limited |
Gujarat Ambuja Export Limited |
Gulbrandsen Technologies (India) Private Limited |
Indiana Chem Port |
Kronox Lab Sciences Private Limited |
Mass Dye Chem. Private Limited |
Medilane Healthcare Private Limited |
Meteoric Biopharmaceuticals Private Limited |
Mulji Mehta Enterprises |
Mulji Mehta Pharma |
Mumbai Merchant |
Nature Bio |
Paras Intermediates Private Limited |
Priya Chemicals |
Promois International Limited |
Shari Pharmachem Private Limited |
Strava Healthcare Private Limited |
Tarkesh Trading Company |
Valaji Pharma Chem |
Venus International Exports Private Limited |
INDIA: Non-Refillable Steel Cylinders A-533-912 | 12/1/23-5/31/25
Bhiwadi Cylinders Private Limited; Sapphire (India) Private Limited |
INDIA: Raw Honey A-533-903 | 6/1/24-5/31/25
AA Food Factory |
AKR Great Honeybee Private Limited |
Allied Natural Product |
Alpro |
Ambrosia Natural Products (India) Private Limited; Ambrosia Enterprise; Sunlite India |
Agro Producer Co. Ltd. |
Aone Enterprises |
Apibee Natural Product Private Limited |
Apis India Limited |
Apl Logistics |
Bee Hive Farms |
Brij Honey Private Limited |
Dabur India Limited |
Ess Pee Quality Products |
Ganpati Natural Products |
GMC Natural Product |
Hi-Tech Natural Products India Limited ¹¹ |
Indocan Honey Pvt. Limited; Queenbee Foods Pvt. Ltd.; Pearlcot Enterprises |
Infinator Pvt., Ltd. |
J. B. Overseas |
Kejriwal Bee Care India Private Limited |
KK Natural Food Industries LLP |
Natural Agro Foods |
NYSA Agro Foods |
Salt Range Foods Pvt. Ltd. |
Shakti Apifoods Pvt. Limited |
Shan Organics |
Shiv Apiaries |
Sunlite Organic |
UTMT |
Vedic Systems |
Yieppie International |
INDIA: Quartz Surface Products A-533-889 | 6/1/24-5/31/25
Aarks Exp. |
Acromont Corp. |
Advantis Quartz Ll |
Aequitas Estones Pvt., Ltd. |
Aequitas Exp. Pvt., Ltd. |
Agarwal Techstone |
Agl Stones LLP |
Ajit Marbles Pvt., Ltd. |
Ajr Quartz Private Ltd. |
Alkara Stones Private Ltd. |
Amazoone Ceramic Ltd. |
Anish Hospitality Manufacturers Pvt., Ltd. |
Anisha Interiors & Imp. & Exp. Llp |
Aqs Rock Surfaces LLP |
Argil Ceramics |
Arklite Speciality Lamps Ltd. |
Arl Infratech Ltd. |
ARO Granite Industries Ltd. |
Artino Quartz Private Ltd. |
Asher Stone LLP |
Asian Granito India Ltd. |
Aura Granite |
Ava Stones Private Ltd. |
Baba Super Minerals Private Ltd. |
Bajaj And Mehta Imp. & Exp. Pvt., Ltd. |
Beyyond Rocks Private Limited |
Camrola Quartz Limited |
Chariot International Pvt., Ltd. |
Citta Surfaces India LLP |
Classic Marble Co. Pvt., Ltd. |
Creative Quartz LLP |
Crystal Surface |
Cuarzo |
Dazzling Stones |
Divya Gem Stonex |
Divyashakti Ltd. |
Eelq Stone Llp |
Emcer Tiles Private Ltd. |
Engistone India Private Ltd. |
Enigma Exim |
Esprit Stones Private Ltd. |
Eternal Surfaces Private Ltd. |
Evetis Stone India Private |
Fairdeal Surfaces |
Flex Stone Inc. |
Flipspaces Technology Labs Pvt., Ltd. |
Forms And Surfaces India Pvt., Ltd. |
Future Stone Works Private Ltd. |
Galaxy Gem Stone |
Galaxy Overseas |
Gallery Of Marble |
Gcl Stones |
Geetanjali Quartz Pvt., Ltd. |
Gita Hospitality Pvt., Ltd. |
Global Quartz Pvt. Ltd. |
Global Stones Pvt Ltd. |
Global Surfaces Ltd. |
Glossy Imp. & Exp. Private Ltd. |
Glowstone Industries Private Ltd. |
Gorbandh Marbles Pvt., Ltd. |
Granite Mart Limited |
Haique Stones Private Ltd. |
Hi Elite Quartz LLP |
Hilltop Stones Pvt., Ltd. |
Igm Surfaces Pvt., Ltd. |
Imperiaal Granimarmo Private Ltd. |
Inani Marble Industries |
International Stones India Private Limited |
Iraj Evolution Design Co. Pvt., Ltd. |
J T Enterprisess Exim Private Ltd. |
Jagson India |
Jbb Stones India Pvt., Ltd. |
Jyothi Granite Exp. India Pvt. Lt |
Jyothi Quartz Surfaces |
Keros Stone LLP |
Kgk Artistic Stones LLP |
Krishna Sai Exp. |
La Rubino Surfaces Pvt., Ltd. |
Lakshmi Galaxy Enterprises |
M And G Imp. & Exp. (India) Private Ltd. |
M.B. Granites Private Ltd. |
Magmatic Stone International |
Mahi Granites Pvt., Ltd. |
Malbros Marbles & Granites Industries |
Marudhar Rocks International Pvt Ltd; Marudhar Quartz Surfaces Pvt Ltd. |
Moon Rock & Surfaces Private Ltd. |
Mpg Stone Pvt., Ltd. |
Mpg Surfaces Pvt., Ltd. |
Mq Surfaces Pvt., Ltd. |
Nice Quartz and Stones Private Ltd. |
Oceanic 6 Solutionz |
Pacific Industries Limited |
Pacific Quartz Surfaces LLP |
Paradigm Granite Pvt., Ltd. |
Paradigm Stone India Private Ltd. |
Pearl Quartz Stone Private Ltd. |
Pelican Quartz Stone |
Petros Stone LLP |
Plutus Marbles LLP p |
PM Quartz Surfaces Private Ltd. |
Pokarna Engineered Sone Limited |
Prakash Marble Industries |
Prasheel International Private Ltd. |
Pristine Quartz Pvt., Ltd. |
Qrox Surfaces |
Quartzart Stones LLP |
Quartzkraft LLP |
R S G Stones |
Radiant Rocks Private Ltd. |
Raj Chatra Granites |
Raj Kesari Rocks Private Ltd. |
Rakman Stone Exp. Pvt., Ltd. |
Ramesh Slate Works |
Ravileela Granites Ltd. |
Renshou Industries |
Roar Stonex |
Rocks and Resources |
Rocks Forever |
Rsg Fabrications LLP |
Rsg Stones |
Rudra Quartz LLP |
S N K Granite Exp. |
Safayar Ceramics Private Ltd. |
Sati Exp. India Private Ltd. |
Satya International |
Shivam Surface India LLP |
Shree Sai Enterprises |
Singhaniya Stones |
Sketch Quartz Private Ltd. |
Snk Granite Exp. |
Stone Empire Private Ltd. |
Stone Imp. & Exp. (India) Private Ltd. |
Stone India Ltd. |
Stone Planet Exp. |
Stoneby India Llp |
Suvraj Quartz |
Svg Exports Private Limited |
Tab India Granites Pvt., Ltd. |
Tripura Stones Private Ltd. |
Universal Quartz &Natural Stone Pvt Ltd. |
Upsurfaces Corporations Llp |
Variety Art Stones Ltd. |
Venkata Sri Balaji Quartz Surfaces |
Virgos International |
Welspun Global Brands Ltd. |
Yalavarthi Granites And Furniture Private Ltd. |
Yamuna Slate Industries |
Yash Gems |
Zinith Surfaces |
ITALY: Certain Cold-Drawn Mechanical Tubing of Carbon and Alloy Steel A-475-838 | 6/1/24-5/31/25
Dalmine, S.p.A. |
Tenaris Global Services (U.S.A.) Corporation |
JAPAN: Glycine A-588-878 | 6/1/24-5/31/25
Ajinomoto Co., Inc. |
Ajinomoto Healthcare, Inc. |
Nagase & Co., Ltd. |
Resonac Corporation |
Sojitz Corporation |
Sojitz Logistics Corporation |
Yuki Gosei Kogyo Co., Ltd. |
MALAYSIA: Prestressed Concrete Steel Wire Strand A-557-819 | 6/1/24-5/31/25
Kiswire Sdn. Bhd. |
Southern Steel Sdn. Bhd. |
Southern PC Steel Sdn. Bhd. |
Wei Dat Steel Wire Sdn. Bhd. |
MEXICO: Brass Rod A-201-858 | 12/1/23-5/31/25
Industrias Unidas S.A. de C.V. |
REPUBLIC OF KOREA: Brass Rod A-580-916 | 12/1/23-5/31/25
Booyoung Industry |
Daechang Co., Ltd. |
REPUBLIC OF TÜRKIYE: Common Alloy Aluminum Sheet ¹² A-489-839 | 4/1/24-3/31/25
ASAS Aluminyum Sanayi ve Ticaret A.S |
Assan Aluminyum Sanayi ve Ticaret A.S. |
Kibar Americas, Inc. |
Kibar Dis Ticaret A.S |
Teknik Aluminyum Sanayi A.S. |
REPUBLIC OF TÜRKIYE: Quartz Surface Products A-489-837 | 6/1/24-5/31/25
AKG Yalitim ve Insaat Malzemeleri Sanayi ve Ticaret A.S. |
Belenco Dis Ticaret A.S.; Peker Yuzey Tasarimlari Sanayi ve Ticaret A.S. |
Cimstone Insaat Malzemeleri San.Ve TIC. A.S. |
SOCIALIST REPUBLIC OF VIETNAM: Boltless Steel Shelving Units Prepackaged for Sale A-552-835 | 11/29/23-5/31/25
Cuong Nghia Imp. Exp. |
Great Star Vietnam Co. Ltd. |
Parkway Thanh Phong Co., Ltd. |
Quoc Ham Co., Ltd. |
Thanh Phong Production and Trade Limited Company |
Xinguang (Vietnam) Logistic Equipment Co., Ltd. |
SOCIALIST REPUBLIC OF VIETNAM: Raw Honey A-552-833 | 6/1/24-5/31/25
Ban Me Thuot Honeybee Joint Stock Company |
Ban Me Thuot Honeybee JSC |
Bao Nguyen Honeybee Co. Ltd. |
Daisy Honey Bee Joint Stock Company |
Daisy Honey Bee JSC |
Dak Nguyen Hong Exploitation of Honey Company Limited TA |
Daklak Honey Bee JSC |
Daklak Honeybee Joint Stock Company |
Dong Nai Honey Bee Corp. |
Dongnai HoneyBee Corporation |
Golden Bee Company Limited |
Golden Honey Co., Ltd. |
Hai Phong Honeybee Company Limited/Haiphong Honeybee Co., Ltd. |
Hanoi Honey Bee Joint Stock Company |
Hanoi Honeybee Joint Stock Company |
Hanoibee JSC |
Highlands Honeybee Travel Co., Ltd. |
Hoa Viet Honeybee Co., Ltd. |
Hoa Viet Honeybee One Member Company Limited |
Hoang Tri Honey Bee Company Limited |
H.T. Honey Co., Ltd. |
Hoang Tri Honey Bee Company Ltd. |
Hoaviet Honeybee Co., Ltd. |
Honey Holding I, Ltd. |
Hung Binh Phat |
Hung Binh Phat Co., Ltd. |
Hung Thinh Trading Pvt. |
Huong Rung Co., Ltd. |
Huong Rung Trading—Investment and Export Company |
Huong Rung Trading-Investment and Export Company Limited |
Huong Viet Honey Co., Ltd. |
Nguyen Hong Honey Co., Ltd. Ta |
Nguyen Hong Honey Co., LTDTA |
Nhieu Loc Company Limited |
Phong Son Co., Ltd. |
Phong Son Limited Company |
Saigon Bees Co., Limited |
Saigon Bees Company Limited |
Southern Honey Bee Co., Ltd. |
Southern Honey Bee Company LTD |
Spring Honeybee Co., Ltd. |
Thai Hoa Mat Bees Rasing Co., Ltd. |
Thai Hoa Mat Bees Raising Co., Ltd. |
Thai Hoa Viet Mat Bees Raising Co. |
Thanh Hao Bees Company Limited |
TNB Foods Co., Ltd. |
Viet Thanh Food Co., Ltd. |
Viet Thanh Food Technology Development Investment Company Limited |
Vinawax Producing Trading and Service Company Limited |
SOUTH AFRICA: Brass Rod A-791-828 | 12/1/23-5/31/25
Non-Ferrous Metal Works (SA) (PTY) Ltd. |
SPAIN: Chlorinated Isocyanurates A-469-814 | 6/1/24-5/31/25
Electroquímica de Hernani, S.A. |
Ercros, S.A. |
Industrias Químicas Tamar, S.L. |
SPAIN: Finished Carbon Steel Flanges A-469-815 | 6/1/24-5/31/25
ULMA Forja, S.Coop |
SPAIN: Prestressed Concrete Steel Wire Strand A-469-821 | 6/1/24-5/31/25
Global Special Steel Products S.A.U. (d.b.a. Trenzas y Cables de Acero PSC, S.L.) |
SWITZERLAND: Certain Cold-Drawn Mechanical Tubing of Carbon and Alloy Steel A-441-801 | 6/1/24-5/31/25
Benteler Rothrist AG |
Mubea Präzisionsstahlrohr AG |
Mubea Inc |
TAIWAN: Boltless Steel Shelving Units Prepackaged for Sale A-583-871 | 11/29/23-5/31/25
Taiwan Shin Yeh Enterprise Co., Ltd |
THAILAND: Boltless Steel Shelving Units Prepackaged for Sale ¹³ A-549-846 | 11/29/23-5/31/25
ABC Tools Mfg. Corp. |
Bangkok Sheet Metal Public Co., Ltd. |
Fuding Industries Company Limited |
Great Star Industries |
Pengdong Electromechanical (Thailand) Co., Ltd. |
Thai First Precision Industry Company Limited |
THE PEOPLE'S REPUBLIC OF CHINA: Chlorinated Isocyanurates A-570-898 | 6/1/24-5/31/25
Achlor Chemical Ltd. |
Heze Huayi Chemical Co., Ltd. |
Juancheng Kangtai Chemical Co., Ltd.; Juancheng Ouya Chemical Co., Ltd. |
THE PEOPLE'S REPUBLIC OF CHINA: Tapered Roller Bearings and Parts Thereof, Finished or Unfinished A-570-601 | 6/1/24-5/31/25
Shanghai Tainai Bearing Co., Ltd. |
UKRAINE: Prestressed Concrete Steel Wire Strand A-823-817 | 6/1/24-5/31/25
PJSC Stalkanat |
CVD Proceedings
INDIA: Certain Non-Refillable Steel Cylinders C-533-913 | 9/29/23-12/31/24
Bhiwadi Cylinders Private Limited |
Sapphire (India) Private Limited |
Inox India Limited |
Mauria Udyog Limited |
INDIA: Glycine C-533-884 | 1/1/24-12/31/24
Aditya Chemicals |
Adwith Nutrichem Private Limited |
Avid Organics Private Limited |
Bajaj Healthcare Limited |
Elementis Specialties India Private Limited |
Euroasia Trans Continental |
Euroasias Organics Private Limited |
Galaxy Surfactants Limited |
Glisten Biotech |
Grauer & Weil (India) Limited |
Gujarat Ambuja Export Limited |
Gulbrandsen Technologies (India) Private Limited |
Indiana Chem Port |
Kronox Lab Sciences Private Limited |
Kumar Industries |
Mass Dye Chem. Private Limited |
Medilane Healthcare Private Limited |
Meteoric Biopharmaceuticals Private Limited |
Mulji Mehta Enterprises |
Mulji Mehta Pharma |
Mumbai Merchant |
Nature Bio |
Paras Intermediates Private Limited |
Priya Chemicals |
Promois International Limited |
Shari Pharmachem Private Limited |
Strava Healthcare Private Limited |
Tarkesh Trading Company |
Valaji Pharma Chem |
Venus International Exports Private Limited |
REPUBLIC OF KOREA: Brass Rod C-580-917 | 9/29/23-12/31/24
Booyoung Industry |
Daechang Co., Ltd.; Essentech Co., Ltd.; Seowon Co., Ltd.; Taewoo Co., Ltd.; |
IN Steel Industry Co., Ltd.; and IMI Co. Ltd. |
REPUBLIC OF TÜRKIYE: Quartz Surface Products C-489-838 | 1/1/24-12/31/24
AKG Yalitim ve Insaat Malzemeleri Sanayi ve Ticaret A.S. |
Belenco Dis Ticaret A.S.; Peker Yuzey Tasarimlari Sanayi ve Ticaret A.S. |
Cimstone Insaat Malzemeleri San.Ve TIC. A.S. |
Ermas Madencilik Turizm Sanayi Ve Ticaret A.S. |
Suspension Agreements Period To Be Reviewed
None. |

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

⁴ Commerce also received a request for review of “Annamell Imp. E Exp. De Produtos Apicolas Ltda.,” which we consider to be the same company.

⁵ Commerce also received requests for review of “Breyer E Cia Ltda.,” which we consider to be the same company.

⁶ Commerce also received requests for review of “Flora Nectar” and “Flora Nectar Industria Comercio Importacao E Exportacao Ltda.,” which we consider to be the same company.

⁷ Commerce also received requests for review of “Melbras Importadora Agroindústria Ltda.” and “Melbras Importadora E Exportadora,” which we consider to be the same company.

⁸ Commerce also received requests for review of “Minamel,” which we consider to be the same company.

⁹ Commerce also received requests for review of “S&A Honey LTDA EPP,” which we consider to be the same company.

¹⁰ Commerce also received a request for review of “Wenzel's Apicultura,” which we consider to be the same company.

¹¹ We also received a review request for “Hi Tech Natural Products India Ltd.”

¹² In the initiation notice published on June 25, 2025 (90 FR 26967), Commerce listed the wrong period of review. The correct period of review is listed above, and this notice serves as a correction.

¹³ In the opportunity notice that published on June 3, 2025 (90 FR 23515), Commerce listed the wrong period of review. The correct period of review is listed above. This serves as a correction.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁴ available at https://www.govinfo.gov/content/pkg/FR-2013-07-17/pdf/2013-17045.pdf, prior to submitting factual information in this segment. Note that Commerce has amended certain of its requirements pertaining to the service of documents in 19 CFR 351.303(f).¹⁵

¹⁴ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁵ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁶ Commerce intends to reject factual submissions in any proceeding segments if the submitting party does not comply with applicable certification requirements.

¹⁶ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁷ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁷ See 19 CFR 351.302.

Notification to Interested Parties

These initiations and this notice are in accordance with section 751(a) of the Act (19 U.S.C. 1675(a)) and 19 CFR 351.221(c)(1)(i).

Dated: July 22, 2025.
Scot Fullerton,
Acting Deputy Assistant Secretary for Antidumping and Countervailing Duty Operations.

[FR Doc. 2025-14096 Filed 7-24-25; 8:45 am]

BILLING CODE 3510-DS-P